SECURITIES AND EXCHANGE COMMISSION

Sunshine Act Meeting; Agency Meetings

Notice is hereby given, pursuant to the provisions of the Government in the Sunshine Act, Pub. L. 94-409, that the Securities and Exchange Commission will hold the following meetings during the week of July 16, 2001.

An open meeting will be held on Wednesday, July 18, 2001, in Room 1C30, the William O. Douglas Room, at 10:00 a.m., and closed meetings will be held on Wednesday, July 18, 2001, at 3:00 p.m., and Thursday, July 19, 2001, at 11:00 a.m.

The subject matters of the open meeting on Wednesday, July 18, 2001, will be:

(1) The Commission will hear oral argument on an appeal by the Division of Enforcement from an administrative law judge's initial decision.

The law judge dismissed proceedings against Quest Capital Strategies, Inc., a registered broker-dealer and investment adviser, and David Chen Yu, Quest's president and sole owner. Quest and Yu were charged with failing to exercise reasonable supervision over John Nakoski, a Quest branch manager, from August 1992 through August 1993. The law judge concluded that Nakoski engaged in a complex fraudulent scheme that, through no fault of Quest and Yu, circumvented their reasonable supervisory controls.

Among the issues likely to be argued are the following:

For further information, contact Roy Sheetz at (202) 942-0950.

(a) whether the response of Quest and Yu to the notice they received of Nakoski's activities was adequate;

(b) whether the Division of Enforcement obstructed the supervisory efforts of Quest and Yu; and

(c) what sanctions, if any, are appropriate.

For further information contact William Stern at (202) 942-0949.

(2) The Commission will also hear oral argument on an appeal by Stonegate Securities, Inc. (“Stonegate”) and J.W. Barclay & Co., Inc. (“Barclay”), a registered broker-dealer.

The law judge found that Stonegate and Barclay willfully violated the reporting provisions of federal securities laws by failing to file Part II of Commission Form BD-Y2K until over a month after it was due. The law judge censured Stonegate and Barclay, and ordered them to pay $50,000 each in civil money penalties.

Among the issues likely to be argued is whether the sanctions assessed by the law judge are in the public interest.

For further information, contact Roy Sheetz at (202) 942-0950.

Commissioners, Counsel to the Commissioners, the Secretary to the Commission, and recording secretaries will attend the closed meetings. Certain staff members who have an interest in the matters may also be present.

The General Counsel of the Commission, or his designee, has certified that, in his opinion, one or more of the exemptions set forth in 5 U.S.C. 552b(c)(5), (7), (9)(A), 9(B), and (10) and 17 CFR 200.402(a)(5), (7), (9)(i), 9(ii) and (10), permit consideration of the scheduled matters at the closed meetings.

The subject matter of the closed meeting scheduled for Wednesday, July 18, 2001, will be: Post argument discussion.

The subject matter of the closed meeting scheduled for Thursday, July 19, 2001, will be: Institution and settlement of injunctive actions; and institution and settlement of administrative proceedings of an enforcement nature.

At times, changes in Commission priorities require alterations in the scheduling of meeting items. For further information and to ascertain what, if any, matters have been added, deleted or postponed, please contact: The Office of the Secretary at (202) 942-7070.

Dated: July 11, 2001.
Jonathan G. Katz,
Secretary.

[FR Doc. 01-17764 Filed 7-11-01; 3:50 pm]

BILLING CODE 8010-01-M